DEPARTMENT OF COMMERCE

National Oceanic and Atmospheric Administration

Agency Information Collection Activities; Submission to the Office of Management and Budget (OMB) for Review and Approval; Discontinuation; NOAA Community-Based Restoration Program Progress Reports

AGENCY: National Oceanic & Atmospheric Administration (NOAA), Commerce.

ACTION: Notice, discontinuation of OMB Control Number.

SUMMARY: The Department of Commerce, in accordance with the Paperwork Reduction Act of 1995 (PRA), invites the general public and other Federal agencies to comment on proposed, and continuing information collections, which helps us assess the impact of our information collection requirements and minimize the public's reporting burden. The purpose of this notice is to notify the public that NOAA intends to request discontinuation of OMB Control Number 0648-0472. The information collections under this control number are being merged into NOAA information collection 0648-0718 to improve efficiency and consolidate like collections.

FOR FURTHER INFORMATION CONTACT: Requests for additional information or specific questions related to this discontinuation should be directed to Adrienne Thomas, Adrienne.thomas@noaa.gov, 240-477-2372.

SUPPLEMENTARY INFORMATION: On June 8, 2021, a notice was published in the Federal Register (86 FR 30444) seeking public comments on NOAA's request to extend information collection 0648-0472, NOAA Community-based Restoration Program Progress Reports, which currently expires December 31, 2021.

In the interest of efficiency and consolidating similar collections, NOAA determined it was appropriate to merge the reporting requirements of 0648-0472 to OMB Control Number 0648-0718, NOAA Financial Assistance Performance Progress Reports. NOAA will publish a 30-day notice of submission for information collection 0648-0718 that identifies this merge request. Once approved by OMB, control number 0648-0472 will be discontinued.

Sheleen Dumas,
Department PRA Clearance Officer, Office of the Chief Information Officer, Commerce Department.

[FR Doc. 2021-19267 Filed 9-3-21; 8:45 am]

BILLING CODE 3510-22-P